DEPARTMENT OF LABOR

Employment and Training Administration

[TA-W-59,788]

Ace Products, LLC, Newport, TN; Notice of Revised Determination on Reconsideration

On November 8, 2006, the Department issued an Affirmative Determination Regarding Application on Reconsideration applicable to workers and former workers of the subject firm. The notice will soon be published in the Federal Register.

The previous investigation initiated on July 25, 2006, resulted in a negative determination issued on September 14, 2006, based on the finding that imports of semi pneumatic and solid rubber tires did not contribute importantly to worker separations at the subject firm and no shift of production to a foreign source occurred. The denial notice was published in the Federal Register on September 26, 2006 (71 FR 56172).

In the request for reconsideration, the petitioner provided additional information regarding the subject firm's declining customers.

The Department requested additional list of customers from the subject firm and conducted a survey of these customers regarding their purchases of like or directly competitive products to semi pneumatic and solid rubber tires. It was revealed that several declining customers increased their reliance on imports of tires while decreasing their purchases from the subject firm during the relevant period. The increases in imports accounted for a meaningful portion of the subject plant's lost sales.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Ace Products, LLC, Newport, Tennessee, contributed importantly to the declines in sales or production and to the total or partial separation of workers at the subject firm. In accordance with the provisions of the Act, I make the following certification:

All workers of Ace Products, LLC, Newport, Tennessee, who became totally or partially separated from employment on or after July 19, 2005, through two years from the date of this certification, are eligible to apply for adjustment assistance under Section 223 of the Trade Act of 1974, and are eligible to apply for alternative trade adjustment assistance under Section 246 of the Trade Act of 1974.

Signed in Washington, DC this 5th day of December 2006.
Elliott S. Kushner,
Certifying Officer, Division of Trade Adjustment Assistance.

[FR Doc. E6-21106 Filed 12-11-06; 8:45 am]

BILLING CODE 4510-30-P